FEDERAL COMMUNICATIONS COMMISSION

47 CFR Part 20

[CC Docket No. 94-102; FCC 02-318]

Compatibility With Enhanced 911 Emergency Calling Systems; Petition of City of Richardson, Texas Order on Reconsideration II

AGENCY: Federal Communications Commission.

ACTION: Final rule; announcement of effective date.

SUMMARY: In this document, the Commission announces that the Office of Management and Budget (OMB) has approved, on an emergency basis, a new information collection associated with Revision of Commission's Rules to Ensure Compatibility with Enhanced 911 Emergency Calling Systems; Petition of City of Richardson, Texas Order on Reconsideration II. This document is consistent with the Order on Reconsideration, which stated that the Commission would publish a document in the Federal Register announcing the effective date of the rule.

DATES: The amendments to 47 CFR 20.18(j)(4) and (5), published at 68 FR 2914, January 22, 2003, and redesignated as 47 CFR 20.18(m)(4) and (5) at 80 FR 11805, March 4, 2015, are effective November 2, 2018.

FOR FURTHER INFORMATION CONTACT: Nellie Foosaner, Attorney-Advisor, Policy and Licensing Division, Public Safety and Homeland Security Bureau, at (202) 418-2925, or email: nellie.foosaner@fcc.gov. For additional information concerning the Paperwork Reduction Act information collection requirements contact Nicole Ongele at (202) 418-2991 or via email at Nicole.Ongele@fcc.gov.

SUPPLEMENTARY INFORMATION: A summary of the Order on Reconsideration (FCC 02-318) was published in the Federal Register, 68 FR 2914, on January 22, 2003. The Order on Reconsideration adopted rules designed to facilitate the rapid implementation of E911 by addressing what constitutes a valid Public Safety Answering Point (PSAP) request to trigger wireless carriers' obligations to provide E911 service to a PSAP. The Order on Reconsideration stated that with the exception of certain rules requiring OMB approval, the rules adopted in the Order on Reconsideration would become effective. With regard to rules requiring OMB approval, the Commission stated it will publish a document in the Federal Register announcing the effective date of these rules, 68 FR 2914. The information collection requirements in § 20.18(j)(4) and (j)(5) were approved by OMB on January 16, 2003, under OMB Control No. 3060-1031. Subsequent to OMB approval, the Commission redesignated § 20.18(j)(4) and (j)(5) as 20.18(m)(4) and (m)(5). 80 FR 11805, March 4, 2015. With publication of the instant document in the Federal Register, all rules adopted in the Order on Reconsideration are now effective. If you have any comments on the burden estimates listed below, or how the Commission can improve the collections and reduce any burdens caused thereby, please contact Nicole Ongele, Federal Communications Commission, Room 1-A620, 445 12th Street SW, Washington, DC 20554. Please include the OMB Control Number, 3060-1031, in your correspondence. The Commission will also accept your comments via email at PRA@fcc.gov.

Synopsis

As required by the Paperwork Reduction Act of 1995 (44 U.S.C. 3507), the FCC is notifying the public that it received OMB approval on January 27, 2003, for the information collection requirements contained in the modifications to the Commission's rules in 47 CFR 20.18(m)(4) and (m)(5), formerly 47 CFR 20.18(j)(4) and (j)(5).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1031.

The foregoing notice is required by the Paperwork Reduction Act of 1995, Pub. L. 104-13, October 1, 1995, and 44 U.S.C. 3507.

The total annual reporting burdens and costs for the respondents are as follows:

OMB Control Number: 3060-1031.

OMB Approval Date: January 16, 2003.

OMB Expiration Date: August 31, 2003.

Title: Revision of Commission's Rules To Ensure Compatibility With Enhanced 911 Emergency Calling Systems; City of Richardson, Texas, Recon Order.

Form Number: N/A.

Respondents: Business or other for-profit.

Type of Review: New Information Collection.

Number of Respondents and Responses: 1,358 respondents; 1,358 responses.

Estimated Time per Response: 2-40 hours.

Frequency of Response: On occasion, third party disclosure requirement, and recordkeeping requirement.

Obligation to Respond: Mandatory. Statutory authority for this information collection is contained in 47 U.S.C. 154, 160, 201, 251-254, 303, and 332 of the Communications Act of 1934, as amended.

Total Annual Burden: 13,960 hours.

Total Annual Cost: No cost.

Nature and Extent of Confidentiality: Respondents are not required to submit proprietary trade secrets or other confidential information. However, carriers that believe the only way to satisfy the requirements for information is to submit what it considers to be proprietary trade secrets or other confidential information, carriers are free to request that materials or information submitted to the Commission be withheld from public inspection (see section 0.459 of the Commission's rules).

Privacy Act Impact Assessment: No impact(s).

Needs and Uses: The information collection requirements contained in this collection guarantee continued cooperation between wireless carriers and Public Safety Answering Points (PSAPs) in complying with the Commission's E911 requirements.

Federal Communications Commission.
Marlene Dortch,
Secretary, Office of the Secretary.

[FR Doc. 2018-24024 Filed 11-1-18; 8:45 am]

BILLING CODE 6712-01-P